DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on a proposed new collection of information (1024-xxxx).

DATES: Public comments will be accepted on the proposed Information Collection Request (ICR) on or before October 21, 2008.

ADDRESSES: Send comments to: Tatjana Rosen, School of Forestry and Environmental Studies, Yale University, 205 Prospect Street, New Haven, CT 06511; or via e-mail at Tatjana.Rosen@yale.edu. Also, you may send comments to Leonard E. Stowe, NPS Information Collection Clearance Officer, 1849 C St., NW., (2605), Washington, DC 20240; or via e-mail at leonard_stowe@nps.gov. All responses to this notice will be summarized and included in the request for the Office of Management and Budget (OMB) approval. All comments will become a matter of public record.

To request a draft of proposed collection of information contact: Tatjana Rosen, School of Forestry and Environmental Studies, Yale University, 205 Prospect Street, New Haven, CT 06511; or via e-mail at Tatjana.Rosen@yale.edu.

FOR FURTHER INFORMATION CONTACT: Dr. James Gramann, National Park Service Social Science Program, 1201 “Eye” St., Washington, DC 20005; or via phone at 202/513-7189; or via e-mail at James_Gramann@partner.nps.gov. You are entitled to a copy of the entire ICR package free of charge.

SUPPLEMENTARY INFORMATION: Title: Economic Study of Roadside Bear Viewing in Yellowstone National Park.

Bureau Form Number: None.

OMB Number: To be requested.

Expiration Date: To be requested.

Type of Request: New Collection.

Description of Need: Yellowstone National Park (YNP) now attempts to enhance opportunities for roadside bear viewing by leaving bears in proximity of park roads and devoting resources to managing “bear jams” (traffic jams created by visitors stopping to view the bears) and their associated challenges. Three questions arise with respect to this policy. First, what economic value does the opportunity to view bears near roads in YNP have to the visitors themselves; second, what are visitors' perceptions about the current roadside bear management policy; and third, what impact does the policy to allow bears to remain in roadside locations have on YNP visitation rates and on visitors' broader views of bears, other wildlife, and other natural resources.

To explore these questions, YNP is planning to use a mail-back questionnaire designed to systematically collect data from visitors in the following areas: Visit and individual characteristics, importance of different natural resources to the trip, acceptability of different wildlife management practices for roadside bear viewing, effects of management policy changes on the decision to return to the park (including regional economic impact) and perspectives on roadside bear viewing. The information acquired will help determine the effectiveness of current bear roadside management practices and—if the results so show—provide a credible basis to seek additional funds to manage roadside bears. The Bear Management Office in YNP has collected data on “bear jams” reported in the park since 2000, including the number of personnel hours spent by park staff in order to keep bear jams safe and visitors satisfied. Currently there are more “bear jams” than park rangers to manage them and several visitors and “bear enthusiasts” have expressed some level of concern about that situation.

The results of the survey will help define the costs and benefits associated with the current roadside bear management policy in YNP. In addition, it will provide park managers and others with important, accurate information about the YNP visitor population in general, as well as visitor and trip characteristics of those who specifically view bears on roadsides in the park. The importance of visitation specifically tied to roadside bear viewing in the park will be examined. The NPS's goal in conducting this survey is to evaluate the importance and economic effects of roadside bear viewing. The obligation to respond is voluntary.

Automated data collection: This information will be collected via mail-back surveys no automated data collection will take place.

Description of respondents: Visitors to Yellowstone National Park.

Estimated average number of respondents: 1000 (800 respondents and 200 non-respondents).

Estimated average number of responses: 1000 (800 responses and 200 non-responses).

Estimated average burden hours per response: 21 minutes per respondent and 1 minute per non-respondent.

Frequency of response: 1 time per respondent and non-respondent.

Estimated annual reporting burden: 283 hours.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: August 7, 2008.
Leonard E. Stowe,
NPS, Information Collection Clearance Officer.

[FR Doc. E8-19429 Filed 8-21-08; 8:45 am]

BILLING CODE 4312-52-M